DEPARTMENT OF THE INTERIOR

Bureau of Land Management

[LLIDT020000.L10200000.EE0000.241A.00]

Notice of Intent To Prepare an Environmental Impact Statement for the Shoshone Basin Grazing Permit Renewal

AGENCY: Bureau of Land Management, Interior.

ACTION: Notice of Intent.

SUMMARY: In compliance with the National Environmental Policy Act of 1969, as amended, and the Federal Land Policy and Management Act of 1976, as amended, the Bureau of Land Management (BLM) Burley Field Office, Burley, Idaho intends to prepare an environmental impact statement (EIS) and by this notice is announcing the beginning of the scoping process to solicit public comments and identify issues.

DATES: This notice initiates the public scoping process for the EIS. Comments should be submitted within 30 days of the date of this posting to be included in the analysis. The date(s) and location(s) of any scoping meetings will be announced at least 15 days in advance through local media and the BLM Web site: http://www.blm.gov/id. In order to be included in the draft EIS, all comments must be received prior to the close of the scoping period or 15 days after the last public meeting, whichever is later.

ADDRESSES: You may submit comments and issues related to the Shoshone Basin Grazing EIS by any of the following methods:

• Web site: http://www.blm.gov/id/st/en/fo/burley.html.

• E-mail: id_burley_fo_@blm.gov.

• Fax: 208-677-6699.

• Mail: 15 East 200 South, Burley, Idaho 83318.

Documents pertinent to this proposal may be examined at the Burley Field Office.

FOR FURTHER INFORMATION CONTACT: For further information and/or to have your name added to our mailing list, contact Scott Sayer, Natural Resource Specialist, telephone (208) 677-6630, e-mail ssayer@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM Burley Field Office, Burley, Idaho, intends to prepare an EIS for grazing permit renewals in the Shoshone Basin area, announces the beginning of the scoping process, and seeks public input on issues. The planning area is located in Twin Falls County, Idaho, and encompasses approximately 125,800 acres of public land. The purpose of the public scoping process is to determine relevant issues that will influence the scope of the EIS, including the alternatives. Preliminary issues for the planning area have been identified by BLM personnel; Federal, State, and local agencies; and other stakeholders. The primary issue is the cumulative effects to a highly mobile sage-grouse population. These effects come from a variety of sources, including the proposed China Mountain Wind Project, Jack Ranch Wind Project (private), Gollaher Mountain Wind Project (private), Southwest Intertie (500 kV) transmission line, Gateway West (500kV) transmission line, numerous wildfires, and grazing.

The Burley Field Office will consult with the Shoshone-Paiute and Shoshone-Bannock Tribes on this action during regular consultation proceedings and briefings. The BLM will also brief county commissioners, Congressional delegations and grazing permittees during the EIS process.

An environmental assessment (EA) was prepared for the Horse Creek, Magic Common, South Big Creek, Kerr Lost Creek, and Baker Lost Creek allotments in the Shoshone Basin. An EA was also prepared for grazing permit renewal for the Western Stock Growers, Hub Butte, and Squaw Joe allotments. In those EAs, the BLM concluded that direct and indirect impacts from livestock grazing alone were not significant. However, large energy projects proposed in the area could, if constructed result in significant cumulative effects on Greater sage-grouse. The EIS will explore potential impacts from proposed grazing against the backdrop of wildfire and the development of energy projects that are reasonably foreseeable in the Browns Bench/Shoshone Basin area.

You may submit comments on issues and planning criteria in writing to the BLM using one of the methods listed in the ADDRESSES section above. To be most helpful, you should submit comments by the close of the 30-day scoping period. Before including your address, phone number, e-mail address, or other personal identifying information in your comment, you should be aware that your entire comment—including your personal identifying information—may be made publicly available at any time. While you can ask in your comment to withhold your personal identifying information from public review, we cannot guarantee that we will be able to do so.

The public is also encouraged to help identify any other management questions and concerns that should be addressed in the EIS.

The BLM will use an interdisciplinary approach to develop the plan in order to consider the variety of resource issues and concerns identified. Specialists with expertise in the following disciplines will be involved in the planning process: Range management, wildlife biology, archaeology, riparian, soils, and outdoor recreation.

Authority: 40 CFR 1501.7, 43 CFR 1610.2.

Michael C. Courtney,
Field Manager.

[FR Doc. 2011-22346 Filed 8-31-11; 8:45 am]

BILLING CODE 4310-GG-P